DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Multi-Site Evaluation of the Safe Schools/Healthy Students (SS/HS) State Program—NEW

The Substance Abuse and Mental Health Services Administration's (SAMHSA) Center for Mental Health Services (CMHS) will conduct the multi-site evaluation of the Safe Schools/Healthy Students (SS/HS) state program. The data collected through the multi-site evaluation addresses three study components: (1) The planning, collaboration, and partnership study; (2) the implementation study; and (3) the workforce study.

The SS/HS state program funded grantees in seven states beginning in September 2013. Data will be collected from state/tribal administrators, Local Education Authorities (LEAs)/Districts, local program staff (e.g., school resource officers, teachers and administrators, and psychologists) and program partners (e.g., parents, representatives from the juvenile justice and mental health providers).

Data collection activities will include key informant interviews, and web-based surveys. The instruments to be used for data collection are as follows:

Planning, Collaboration and Partnership Study

• State Key Informant Interview Protocol

• District Key Informant Interview Protocol

• State Collaborator Survey

• District Collaborator Survey

• State Collaboration Indicator Data Instrument

• District Collaboration Indicator Data Instrument

Implementation Study

• State & District Key Informant Interview Protocol

• School-Level Survey

Workforce Study

• No additional instruments will be used for this study. Data will be gathered from the Planning, Collaboration and Partnership Study and the Implementation Study.

A summary table of the number of respondents and respondent burden has also been included.

Data Collection Activities for MSE Grantees

Data for all instruments will be collected annually with the exception of data for the state and District Collaboration Indicator Data Instrument which will be collected quarterly.

State Key Informant Interview (Planning, Collaboration and Partnership Study)

The key informant interview protocol will collect information on the service model, partnerships and interagency collaboration, program implementation fidelity, plan deviations, and state and local policy development at the state level. Interviews will also include questions to learn about opportunities that were provided for workforce training. Responses will be compared over time to assess positive development of the program model, emerging barriers and facilitators to implementation, and evolving solutions. On average, 14 state administrators will be interviewed annually and the duration of the interview is estimated to be one hour.

District Key Informant Interview (Planning, Collaboration and Partnership Study)

The purpose of these interviews is to identify, through the perspectives of LEA administrators and program partners their descriptions of SS/HS program activities. In particular, the degree to which critical SS/HS framework elements are operationalized, as well as the degree to which principles and strategies are acknowledged and integrated as part of the service processes. Topics include the provider's approach to service provision (sensitivity to health disparities, cultural competence), the coordination of services across the LEA and other local agencies, training of mental health workers, local policy and protocol development, and barriers/facilitators at the local level that influence the adoption, integration, and sustainability of SS/HS principles. Responses will be compared over time to assess positive development of the program model. It is anticipated that an average of 63 district administrators and program partners will participate in the interview each year and the interviews will be about one hour in duration.

State Collaborator Survey (Planning, Collaboration and Partnership Study)

The state administrator's survey will seek to understand the level of inter-professional collaboration among entities working at the state level to promote expanded school mental health. The survey will also capture perceptions of partnership functioning in terms of partner goals, resources, culture and values, and roles and responsibilities, as well as leadership and collaboration among partners as they impact (1) school and community partner engagement, (2) facilitators, (3) barriers, (4) shared decision-making, (5) partnership structure, and (6) sustainability. An average of 208 state administrators and program partners will complete the survey annually and it is estimated that completion will take 30 minutes.

District Collaborator Survey (Planning, Collaboration and Partnership Study)

The state administrator's survey will seek to understand the level of inter-professional collaboration among entities working at the district level to promote expanded school mental health. The survey will also capture perceptions of partnership functioning in terms of partner goals, resources, culture and values, and roles and responsibilities, as well as leadership and collaboration among partners as they impact (1) school and community partner engagement, (2) facilitators, (3) barriers, (4) shared decision-making, (5) partnership structure, and (6) sustainability. An average of 624 LEA district administrators and program partners will complete the survey annually and the time for completion is estimated to be 45 minutes.

State Collaboration Indicator Data Instrument (Planning, Collaboration and Partnership Study)

The State Collaboration Indicator Data Instrument will gather data about the program activities that occur at the state level. By tracking these activities, it will be possible to determine the frequency with which administrators engage in SS/HS program related activities such as holding meetings, the number of persons who attend such meetings, whether and the frequency with which trainings and other support activities occur as well as the participants in such trainings. The instrument will also track whether and what type of resources are leveraged by program partners at the state level. One instrument will be completed by each state and it is estimated that it will take on average 1.5 hours to gather the data and complete the instrument.

District Collaboration Indicator Data Instrument (Planning, Collaboration and Partnership Study)

The District Collaboration Indicator Data Instrument will gather data about the program activities that occur at the LEA/district level. By tracking these activities, it will be possible to determine the frequency with which LEA administrators and program partners at the district level hold meetings, the number of persons who attend such meetings, whether and the frequency with which trainings and other support activities occur, and the participants in such trainings. The instrument will also track whether and what type of resources are leveraged by program partners at the district level. One instrument will be completed by each of the 21 LEAs and it is estimated that it will take on average 1.5 hours to gather the data and complete the instrument.

State and District Key Informant Interview (Implementation Study)

The State and District Key Informant Interviews will be held with administrators and program partners at the state and LEA districts. The interviews will seek to gain an understanding of respondents' perspectives as these relate to the degree to which critical SS/HS framework elements are operationalized, as well as the degree to which mental health principles and strategies are acknowledged and integrated as part of the service processes. The interviews will also seek to gain an understanding of the types of services and supports that have been implemented as a result of the SS/HS program, children's access to mental health services, and the facilitators and barriers to program implementation. Interviews will also include questions to learn about the role workforce development opportunities played in program implementation. A total of 56 persons will be interviewed: 14 at the state/tribal level and 42 at the district level. Interviews will take on average one hour to complete.

School-Level Survey (Implementation Study): The school-level survey will be completed by persons who work within the schools that are participating in the SS/HS state program. The survey combines items from three surveys: The Evidence-Based Practice Attitude Scale (EBPAS) assesses mental health and social service provider attitudes toward adopting evidence-based practices. The Mental Health Service Integration Survey (MHSIS) assesses professional school mental health roles, service integration, and barriers and facilitators of mental health service integration in schools. The School Mental Health Quality Assessment Questionnaire (SMHQAQ) is a 40 item instrument divided into 10 domains that assess the integration of school mental health services delivered in schools. The 10 domains related to the 10 principles of expanded school mental health include: (1) Access to care; (2) Needs assessment; (3) Evidence-based practices; (4) Stakeholder involvement and feedback; (5) Quality assessment and improvement; (6) Continuum of care and referral processes; (7) Clinician training, support, and service delivery; (8) Competently addressing developmental, cultural, and personal differences; (9) Interdisciplinary collaboration and communication; and (10) Community coordination. The School Mental Health Capacity Instrument is a 27-item scale that assesses the capacity of schools to address the mental health needs of students. The schools can be rated along a continuum using the three individual subscales of intervention, early recognition & referral, or prevention & promotion. In addition, the total sum of all three scales provides an overall measure of capacity. The intervention subscale looks at training, protocols, and the designation of specific follow-up procedures for children referred for mental health services. Early recognition and referral covers universal screenings for potential problems, and communication between staff members to discuss students who may be experiencing mental health concerns. Finally, prevention and promotion looks at the efforts focused on student's social-emotional development. A total of 2,100 persons will be invited to complete the survey annually and it is estimated that completion of the survey will take on average 25 minutes.

Internet-based technology will be used for collecting data via Web-based surveys, and for data entry and management. The average annual respondent burden is estimated below.

Table 1—Estimates of Annualized Hour Burden
Type of respondents | Instrument | Number of respondents | Responses per respondent | Average hours per respondent | Total annual hour burden
Planning, Collaboration & Participation Study
Key project staff at state level (e.g., project coordinators, evaluators), SMT members | State KIIs | 14 | 1 | 1 | 14
Key project staff at LEA level (e.g., project coordinators, evaluators), CMT members | District KIIs | 63 | 1 | 1 | 63
Key project staff at state level (e.g., project coordinators, evaluators), SMT members | State Collaborator Survey | 208 | 1 | .5 | 104
Key project staff at LEA level (e.g., project coordinators, evaluators), CMT members | District Collaborator Survey | 624 | 1 | .33 | 206
Project Evaluator | State Collaboration Indicator Data Instrument | 7 | 4 | 1.5 | 42
Project Evaluator | District Collaboration Indicator Data Instrument | 21 | 4 | 1.5 | 126
Implementation Study
Program and school staff working at the state & district level | KIIs | 56 | 1 | 1 | 56
Program and school staff working at the school level | School-Level Survey | *2,100 | 1 | .45 | 945
Total |  | 3,093 |  |  | 1,556
*10 respondents will participate in up to 10 schools in each of the 21 LEAs
The estimate reflects the average annual number of respondents, the average annual number of responses, the time it will take for each response, and the average annual burden. The number of grantees in each year is assumed to be constant.

Written comments and recommendations concerning the proposed information collection should be sent by October 24, 2014 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2014-22630 Filed 9-23-14; 8:45 am]

BILLING CODE 4162-20-P